DEPARTMENT OF THE INTERIOR

Geological Survey

[GX22WB12E6R03; OMB Control Number 1028-xxxx]

Agency Information Collection Activities; Caribou Video Data Scoring

AGENCY: U.S. Geological Survey, Interior.

ACTION: Notice of Information Collection; request for comment.

SUMMARY: In accordance with the Paperwork Reduction Act of 1995, we, the U.S. Geological Survey (USGS) are proposing a new information collection.

DATES: Interested persons are invited to submit comments on or before January 7, 2022.

ADDRESSES: Send your comments on this information collection request (ICR) by mail to U.S. Geological Survey, Information Collections Officer, 12201 Sunrise Valley Drive, MS 159, Reston, VA 20192; or by email to gs-info_collections@usgs.gov. Please reference OMB Control Number 1028-NEW in the subject line of your comments.

FOR FURTHER INFORMATION CONTACT: To request additional information about this ICR, email heatherjohnson@usgs.gov, or by telephone at 907-786-7155. Individuals who are hearing or speech impaired may call the Federal Relay Service at 1-800-877-8339 for TTY assistance. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: We have developed an online application for project collaborators and volunteers to watch video clips that were collected from caribou collars (animal-borne video collars) and enter information about the behaviors and habitats observed in the clips. Information collected from the participants will be analyzed to describe caribou foraging behavior, how it varies across the summer, and the factors that influence it. This information is being collected as part of a long-term project to understand how climate variability influences caribou forage conditions, behaviors, distributions, and population dynamics. Results of the analyses will be published in peer-reviewed scientific publications that will be available to the public.

Title of Collection: Caribou Video Data Scoring.

OMB Control Number: 1028-NEW.

Form Number: None.

Type of Review: New.

Respondents/Affected Public: Project collaborators (including some DOI agency employees) and volunteers.

Total Estimated Number of Annual Responses: 5,000.

Estimated Completion Time per Response: 2 minutes on average.

Total Estimated Number of Annual Burden Hours: 166.

Respondent's Obligation: Voluntary.

Frequency of Collection: Depends on the time and interest of the respondent. Some respondents will enter information on a daily or weekly basis, others will enter information less frequently.

Total Estimated Annual Nonhour Burden Cost: None.

An agency may not conduct, or sponsor and a person is not required to respond to a collection of information unless it displays a currently valid OMB control number.

The authority for this action is the Paperwork Reduction Act of 1995 (44 U.S.C. 3501 et seq.).

John Pearce,
Associate Center Director for Ecosystems.

[FR Doc. 2021-24298 Filed 11-5-21; 8:45 am]

BILLING CODE 4338-11-P